OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: David Guilford, Center for Leadership and Executive Resources Policy, Division for Strategic Human Resources Policy, 202-606-1391.

SUPPLEMENTARY INFORMATION: Appearing in the listing below are the individual authorities established under Schedules A, B, and C between October 1, 2005, and October 31, 2005.

Future notices will be published on the fourth Tuesday of each month, or as soon as possible thereafter.

A consolidated listing of all authorities as of June 30 is published each year.

Schedule A

No Schedule A appointments were approved for October 2005.

Schedule B

No Schedule B appointments were approved for October 2005.

Schedule C

The following Schedule C appointments were approved during October 2005:

Section 213.3303 Executive Office of the President

Office of Management and Budget

BOGS60151 Confidential Assistant to the Administrator, E-Government and Information Technology. Effective October 4, 2005.

BOGS60152 Confidential Assistant to the Executive Associate Director. Effective October 12, 2005.

Office of the United States Trade Representative

TNGS600489 Staff Assistant to the Chief of Staff. Effective October 14, 2005.

TNGS00018 Attorney-Adviser to the Chief of Staff. Effective October 25, 2005.

Section 213.3304 Department of State

DSGS60996 Special Assistant to the Senior Advisor to the Secretary and White House Liaison. Effective October 4, 2005.

DSGS60994 Senior Advisor to the Under Secretary for Management. Effective October 11, 2005.

DSGS60989 Special Assistant to the Assistant Secretary for Economic and Business Affairs. Effective October 12, 2005.

DSGS060991 Foreign Affairs Officer to the Assistant Secretary for Western Hemispheric Affairs. Effective October 19, 2005.

DSGS60977 Special Assistant to the Assistant Secretary for Economic and Business Affairs. Effective October 19, 2005.

DSGS61003 Special Assistant to the Assistant Secretary for Economic and Business Affairs. Effective October 25, 2005.

DSGS61007 Staff Assistant to the Director, Policy Planning Staff. Effective October 27, 2005.

DSGS61008 Special Assistant to the Assistant Secretary for International Organizational Affairs. Effective October 27, 2005.

Section 213.3305 Department of the Treasury

DYGS00462 Senior Advisor to the Under Secretary for International Affairs. Effective October 4, 2005.

Section 213.3306 Department of Defense

DDGS16893 Defense Fellow to the Special Assistant to the Secretary of Defense for White House Liaison. Effective October 1, 2005.

DDGS16901 Special Assistant to the Assistant Secretary of Defense (Public Affairs). Effective October 27, 2005.

Section 213.3307 Department of the Army

DWGS00063 Confidential Assistant to the Assistant Secretary of Army (Installations and Environment). Effective October 3, 2005.

Section 213.3310 Department of Justice

DJGS00445 Special Assistant to the Director, Community Relations Service. Effective October 14, 2005.

DJGS00178 Counsel to the Assistant Attorney General (Legal Policy). Effective October 18, 2005.

DJGS00303 Associate Director to the Director. Effective October 18, 2005.

DJGS00379 Special Assistant to the Director, Office of Public Affairs. Effective October 19, 2005.

DJGS00322 Counsel to the Assistant Attorney General (Legal Policy). Effective October 24, 2005.

DJGS00373 Staff Assistant to the Director, Office of Public Affairs. Effective October 28, 2005.

Section 213.3311 Department of Homeland Security

DMGS00425 Special Assistant and Policy Analyst to the Director, National Capital Region Coordination. Effective October 14, 2005.

DMGS00427 Counselor to the Director, Bureau of Citizenship and Immigration Services. Effective October 19, 2005.

DMGS00428 Advisor to the Chief of Staff, Effective October 19, 2005.

DMGS00408 Assistant Director of Legislative Affairs for Mass Transit and Immigration to the Assistant Secretary for Legislative Affairs. Effective October 25, 2005.

DMGS00430 Attorney-Adviser (General) to the General Counsel. Effective October 28, 2005.

DMGS00431 Special Assistant to the Assistant Secretary for Information Analysis. Effective October 28, 2005.

DMGS00432 Special Assistant to the Executive Director, Homeland Security Advisory Council. Effective October 28, 2005.

DMGS00433 Junior Writer and Researcher to the Director of Speechwriting. Effective October 28, 2005.

DMGS00435 Advisor to the Director to the White House Liaison. Effective October 28, 2005.

DMGS00437 Advisor to the Director to the Chief of Staff for Citizenship and Immigration Services. Effective October 28, 2005.

DMOT00439 Special Assistant to the Assistant Secretary, Transportation Security Administration. Effective October 31, 2005.

Section 213.3312 Department of the Interior

DIGS01049 Counselor to the Assistant Secretary—Water and Science to the Assistant Secretary for Water and Science. Effective October 13, 2005.

Section 213.3313 Department of Agriculture

DAGS00829 Special Assistant to the Chief Information Officer. Effective October 13, 2005.

DAGS00828 Special Assistant to the Under Secretary for Rural Development. Effective October 14, 2005.

DAGS00832 Confidential Assistant to the Administrator. Effective 25, 2005.

DAGS00833 Speechwriter to the Director of Communications. Effective 28, 2005.

DAGS00830 Special Assistant to the Deputy Administrator, Program Operations. Effective October 28, 2005.

DAGS00831 Special Assistant to the Deputy Assistant Secretary for Congressional Relations. Effective October 31, 2005.

Section 213.3314 Department of Commerce

DCGS00352 Special Assistant to the Assistant to the Secretary and Director, Office of Policy and Strategic Planning. Effective October 13, 2005.

DCGS00562 Special Assistant to the Deputy Secretary. Effective October 17, 2005.

DCGS00346 Confidential Assistant to the Director, Office of White House Liaison. Effective October 25, 2005.

DCGS00162 Senior Advisor to the Assistant to the Secretary and Director, Office of Policy and Strategic Planning. Effective October 27, 2005.

DCGS00379 Senior Counsel to the General Counsel. Effective October 27, 2005.

DCGS00476 Special Assistant to the Director, Executive Secreteriat. Effective October 28, 2005.

DCGS00635 Director of Advisory Committees to the Assistant Secretary for Manufacturing and Services. Effective October 28, 2005.

DCGS00560 Senior Policy Advisor to the Assistant to the Secretary and Director, Office of Policy and Strategic Planning Effective October 31, 2005.

Section 213.3315 Department of Labor.

DLGS60086 Senior Advisor to the Assistant Secretary for Employment Standards. Effective October 12, 2005.

DLGS60018 Deputy Director of Scheduling to the Director of Scheduling. Effective October 25, 2005.

DLGS60171 Director of Scheduling to the Chief of Staff. Effective October 25, 2005.

DLGS60218 Special Assistant to the Assistant Secretary for Public Affairs. Effective October 28, 2005.

Section 213.3316 Department of Health and Human Services.

DHGS60169 Special Assistant to the Assistant Secretary for Public Affairs. Effective October 13, 2005.

DHGS60168 Confidential Assistant to the Deputy Assistant Secretary for Legislation (Planning and Budget) Effective October 19, 2005.

Section 213.3317 Department of Education

DBGS00469 Special Assistant to the Chief of Staff. Effective October 4, 2005.

DBGS00471 Confidential Assistant to the Secretary. Effective October 12, 2005.

DBGS00465 Special Assistant to the Assistant Secretary for Elementary and Secondary Education. Effective October 17, 2005.

DBGS00470 Special Assistant to the Assistant Secretary for Vocational and Adult Education. Effective October 18, 2005

DBGS00473 Secretary's Regional Representative, Region VI to the Director, Regional Services. Effective October 24, 2005.

DBGS00464 Special Assistant to the Chief of Staff. Effective October 27, 2005.

DBGS00474 Deputy Secretary's Regional Representative, Region IV to the Director, Regional Services. Effective October 28, 2005.

DBGS00472 Special Assistant to the Assistant Secretary, Office of Communications and Outreach. Effective October 31, 2005.

Section 213.3318 Environmental Protection Agency

EPGS05011 Confidential Assistant to the Deputy Administrator. Effective October 4, 2005.

EPGS05009 Program Advisor to the Deputy Associate Administrator. Effective October 25, 2005.

Section 213.3325 United States Tax Court

JCGS60061 Secretary (Confidential Assistant) to the Chief Judge. Effective October 4, 2005.

Section 213.3328 Broadcasting Board of Governors.

IBGS00021 Special Assistant to the Director, Voice of America. Effective October 14, 2005.

Section 213.3330 Security and Exchange Commission.

SEOT60007 Confidential Assistant to a Commissioner, Effective October 13, 2005.

SEOT90005 Speechwriter to the Chairman. Effective October 13, 2005.

Section 213.3331 Department of Energy

DEGS00495 Senior Counsel to the General Counsel. Effective October 12, 2005.

DEGS00497 Senior Advisor for External Affairs to the Director of Congressional, Intergovernmental and Public Affairs. Effective October 19, 2005.

DEGS00498 Special Advisor for Public Affairs to the Director of Congressional, Intergovernmental and Pubic Affairs. Effective October 24, 2005.

DEGS00493 Senior Policy Advisor to the Director, Office of Management. Effective October 28, 2005.

Section 213.3332 Small Business Administration

SBGS00592 Regional Administrator. Region III, Philadelphia, Pennsylvania, to the Assistant Administrator for Field Options. Effective October 12, 2005.

SBGS00593 Deputy Associate Administrator for Congressional and Legislative Affairs to the Associate Administrator for Congressional and Legislative Affairs. Effective October 25, 2005.

Section 213.3355 Social Security Administration

SZGS00018 Special Assistant to the Chief of Staff. Effective October 13, 2005.

Section 213.3357 National Credit Union Administration.

CUOT0030 Associate Director of External Affairs to the Chairman. Effective October 19, 2005.

Section 213.3382 National Endowment for the Humanities

NHGS00079 Advisor to the Chairman. Effective October 24, 2005.

Section 213.3394 Department of Transportation.

DTGS60342 Special Assistant for Scheduling and Advance to the Director for Scheduling and Advance. Effective October 13, 2005.

DTGS60117 Assistant to the Secretary for Policy. Effective October 18, 2005.

DTGS60369 Deputy Assistant Secretary for Governmental Affairs to the Assistant Secretary for Governmental Affairs. Effective October 24, 2005.

DTGS60003 Special Assistant to the Secretary and Deputy Director for Scheduling and Advance to the Secretary. Effective October 28, 2005.

Section 213.3397 Federal Housing Finance Board

FBOT00005 Staff Assistant to the Chairman. Effective October 25, 2005.

Authority: 5 U.S.C. 3301 and 3302; E.O. 10577, 3 CFR 1954-1958 Comp., P.218.

Office of Personnel Management
Linda M. Springer,
Director.

[FR Doc. 05-23388 Filed 11-22-05; 5:04 pm]

BILLING CODE 6325-39-M